DEPARTMENT OF THE INTERIOR

Bureau of Ocean Energy Management

Draft Programmatic Environmental Impact Study (PEIS) for Proposed 5-Year Outer Continental Shelf (OCS) Oil and Gas Leasing Program for 2012-2017

AGENCY: Bureau of Ocean Energy Management, Interior.

ACTION: Notice of availability.

SUMMARY: Pursuant to the National Environmental Policy Act (NEPA), BOEM announces the availability of the OCS Oil and Gas Leasing Program 2012-2017 Draft PEIS prepared by BOEM to support the Proposed Outer Continental Shelf Oil and Gas Leasing Program for 2012-2017. BOEM concurrently requests comments and announces public hearings.

DATES: Submit comments on or before January 9, 2012. See public hearing dates in the SUPPLEMENTARY INFORMATION below.

FOR FURTHER INFORMATION CONTACT: Bureau of Ocean Energy Management, Headquarters, 381 Elden Street, Herndon, VA 20170; Attention: Mr. James F. Bennett, Chief of the Division of Environmental Assessment, telephone: (703) 787-1660.

SUPPLEMENTARY INFORMATION: This draft PEIS assesses the scheduling for proposed lease sales during the years 2012 to 2017 in six planning areas on the OCS. These areas are the Western, Central and Eastern Gulf of Mexico, Cook Inlet, the Beaufort Sea, and the Chukchi Sea. Federal regulations (40 CFR 1502.4(b)) recommend analyzing effects of broad programs within a single programmatic EIS.

EIS Availability: Persons interested in reviewing the OCS Oil and Gas Leasing Program for 2012-2017 Draft Programmatic Environmental Impact Statement, OCS EIS/EA BOEM 2011-001 can locate it on the Internet at http://www.boem.gov/5-year/2012-2017 or you may contact Mr. James F. Bennett at the address listed above to request a copy, in hard copy or as a CD/ROM version. Please specify if you wish a CD or paper copy. If neither is specified, a CD containing the Draft PEIS will be forwarded.

Library Availability: The Draft PEIS will also be available for review at libraries in states near the proposed lease sales. These libraries are listed at the BOEM Web site at http://www.boem.gov/5-Year/2012-2017/libraries or a list of libraries can be provided by contacting the contact person listed above.

Written Comments: Comments may be submitted online at http://www.boem.gov/5-year/2012-2017 or letters may be sent to Mr. James F. Bennett at the address listed above. Comments should be labeled “Attn: 5-Year Program Draft PEIS.”

An individual commenter may ask that we withhold their name, home address, or both from the public record, and we will honor such a request to the extent allowable by law. If you submit comments and wish us to withhold such information, you must state so prominently at the beginning of your submission. We will not consider anonymous comments.

Public Hearings: Thirteen public hearings on the 2012-2017 OCS Oil and Gas Leasing Program Draft PEIS will be held December 5 through December 16, 2011. In the Gulf Region, the hearings will be held from 1:00 to 4 p.m. and from 6 p.m. to 9 p.m. on the following dates and at the following locations: December 6, 2011, Houston, TX at the Marriott Houston Intercontinental at George Bush Intercontinental, 18700 John F. Kennedy Boulevard, Houston, TX 77032; December 7, 2011, Mobile, AL at the Renaissance Mobile Riverview Plaza Hotel, 64 South Water Street, Mobile, AL 36602; and December 8, 2011, New Orleans, LA at the Doubletree New Orleans Airport Hotel, 2150 Veterans Memorial Boulevard, Kenner, LA 70062.

In Washington, DC, the hearing will be held from 1 p.m. to 5 p.m. on December 6, 2011, at the Main Department of the Interior Building at 1849 C Street NW., Washington, DC 20240.

In Alaska, public hearings will be held from 7 p.m. to 10 p.m. on the following dates and at the following locations: December 5, 2011, Wainwright at the R. James Community Center; December 6, 2011, Nuiqsut at the Community Center, on; December 7, 2011, Katovik at the Community Center; December 8, 2011, Fairbanks at the Westmark Hotel and Conference Center, 813 Noble Street, Fairbanks, AK 99701; December 9, 2011, Anchorage at the Wilda Marston Theatre, 3600 Denali Street, Anchorage, AK; December 12, 2011, Kotzebue at the NW Arctic Borough Assembly Chamber, 163 Lagoon Street, Kotzebue, AK 99752; December 13, 2011, Point Hope at the City Qalgi Center; December 14, 2011, Point Lay at the Community Center; and December 16, 2011, Barrow at the Inupiat Heritage Center.

After the public hearings and written comments on the Draft PEIS have been reviewed and analyzed, a Final PEIS will be prepared.

Dated: October 26, 2011.
Rodney Cluck,
Acting Chief Environmental Officer, Bureau of Ocean Energy Management.

[FR Doc. 2011-29152 Filed 11-9-11; 8:45 am]

BILLING CODE 4310-MR-P